DEPARTMENT OF COMMERCE

International Trade Administration

[C-570-081]

Glycine From the People's Republic of China: Notice of Correction to Final Affirmative Countervailing Duty Determination and Countervailing Duty Order

AGENCY: Enforcement and Compliance, International Trade Administration, Department of Commerce.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Background

On May 1, 2019, the Department of Commerce (Commerce) published the Final Affirmative Countervailing Duty Determination on glycine from the People's Republic of China (China).¹ On June 21, 2019, in accordance with section 706(a) of the Tariff Act of 1930, as amended (the Act), Commerce published the Countervailing Duty Orders on glycine from China.² In both the Final Affirmative Countervailing Duty Determination and the Countervailing Duty Orders, Commerce made a typographical error with respect to the spelling of the company name of Simagchem Corp., a mandatory respondent subject to the countervailing duty investigation on glycine from China. Specifically, Commerce misspelled the company name as “Sigmachem Corp” in the subsidy rate tables of both the Final Affirmative Countervailing Duty Determination and the Countervailing Duty Orders. The correct spelling of the company name is “Simagchem Corp.” As a result, we hereby correct the Final Affirmative Countervailing Duty Determination and the Countervailing Duty Orders.

¹ See Glycine from the People's Republic of China: Final Affirmative Countervailing Duty Determination, 84 FR 18489 (May 1, 2019) (Final Affirmative Countervailing Duty Determination).

² See Glycine from India and the People's Republic of China: Countervailing Duty Orders, 84 FR 29173 (June 21, 2019) (Countervailing Duty Orders).

Correction

Commerce has corrected the spelling of the company name of Simagchem Corp. in the subsidy rate tables of the Final Affirmative Countervailing Duty Determination and the Countervailing Duty Order. The estimated subsidy rates remain unchanged. The corrected subsidy rate table is as follows:

Exporter/producer | Subsidy rate (percent)
JC Chemicals Limited | 144.01
Simagchem Corp | 144.01
All Others | 144.01

This correction to the Final Affirmative Countervailing Duty Determination and the Countervailing Duty Orders is issued and published in accordance with sections 777(i)(1) and 706(a) of the Act.

Dated: July 17, 2019.
Jeffrey I. Kessler,
Assistant Secretary for Enforcement and Compliance.

[FR Doc. 2019-15822 Filed 7-24-19; 8:45 am]

BILLING CODE 3510-DS-P